NUCLEAR REGULATORY COMMISSION

[Docket No. 030-03754; NRC-2011-0033]

Notice of Availability of Environmental Assessment and Finding of No Significant Impact for License Amendment for ABB, Inc., Windsor, CT

AGENCY: U.S. Nuclear Regulatory Commission.

ACTION: Notice of availability.

FOR FURTHER INFORMATION CONTACT: John Nicholson, Project Manager, Decommissioning Branch, Division of Nuclear Materials Safety, Region I, U.S. Nuclear Regulatory Commission, King of Prussia, Pennsylvania, 19406. Telephone: 610-337-5236; fax number: 610-337-5269; e-mail: John.Nicholson@nrc.gov.

SUPPLEMENTARY INFORMATION:

I. Introduction

The U.S. Nuclear Regulatory Commission (NRC) is issuing a license amendment to Material License No. 06-00217-06 issued to ABB, Inc. (ABB or, “the licensee”), to authorize a revision to the previously approved (June 1, 2004) Decommissioning Plan (DP) for its CE Windsor Site (Facility) located at 2000 Day Hill Road, Windsor, Connecticut. The NRC has prepared an Environmental Assessment (EA) in support of this amendment in accordance with the requirements of 10 CFR Part 51. Based on the EA, the NRC has concluded that a Finding of No Significant Impact (FONSI) is appropriate. The amendment will be issued following the publication of this Notice.

II. EA Summary

Identification of Proposed Action

The purpose of the proposed amendment is to approve a revision, Decommissioning Plan Revision (DP) 2, to the previously approved site DP for the licensee's facility. The original DP was approved on June 1, 2004, and revision 1 was approved on July 8, 2009. Specifically, this Revision 2 to the approved DP expands the scope of the DP and provides the radiological status and remediation plans for select Formerly Utilized Sites Remedial Action Program (FUSRAP) areas, including the Site Brook and the adjacent Debris Pile. In addition, site-specific derived concentration guideline limits (DCGLs) for thorium-232 (Th-232) and radium-226 (Ra-226) are provided in the revised DP. Small quantities of Th-232 and Ra-226 were identified during investigational sampling of the Burning Grounds area, and DCGLs have been developed and submitted for approval as an addendum to the DP, Revision 2 (Derivation of the Site-Specific Soil DCGLs Addendum Soil DCGLs for Thorium and Radium). The revised DP does not change any previously approved remediation activities or DCGLs for uranium or cobalt-60 (Co-60) at the site. On February 26, 2010, and as supplemented on August 6, 2010, ABB, Inc. requested that NRC approve the proposed amendment. The licensee's request for the proposed change, including an opportunity to request a hearing or provide comments, was previously noticed in the Federal Register on February 15, 2011 (76FR8785).

The staff has prepared the EA in support of the proposed license amendment. The proposed actions will allow the licensee to continue to remediate the remainder of the site for eventual unrestricted use pending final status survey results. The licensee has obtained the proper permits from the State of Connecticut Department of Environmental Protection for the planned remediation activities impacting the Site Brook. The DCGLs established in the DP Revision 2 for Ra-226 and Th-232 do not exceed the trigger levels requiring consultation with the U.S. Environmental Protection Agency (EPA) under the Memorandum of Understanding between the EPA and the NRC.

Need for the Proposed Action

The proposed action would allow ABB to complete the remaining Facility remediation and decommissioning activities, thereby reducing residual radioactivity at the Facility to a level that permits release of the entire property for unrestricted use and termination of the license. The licensee has been successfully remediating and decommissioning the Facility since 2004 under the previously-approved DP. In order to complete remediation of the entire Facility, the FUSRAP areas must be remediated. NRC is fulfilling its responsibilities under the Atomic Energy Act of 1954, as amended, to make a decision on a proposed license amendment for decommissioning that ensures safety and protection of the public and the environment.

Environmental Impacts of the Proposed Action

In preparing this EA, the NRC staff reviewed the 2004 EA issued in connection with the initial DP; the 2009 EA issued in conjunction with the DP Revision 1; the licensee's Environmental Report submitted on February 28, 2010; and the revised DP submitted in February 2010 and supplemented in August 2010. Additionally, the staff has continuously reviewed the performance of the decommissioning activities conducted by the licensee and their contractors through periodic inspections. The staff concluded that the bases for the findings of the 2004 and 2009 EAs remain valid, and are applicable to the revised DP. Regarding remediation of the FUSRAP areas, decommissioning methodologies are unchanged from the initial approved DP and remain appropriate for the contaminant concentrations found in the FUSRAP area soils. The same isotopes that were present in the Facility's non-FUSRAP areas (namely, those associated with enriched uranium and cobalt-60) exist in the FUSRAP areas as well. The FUSRAP areas requiring remediation are similar to those already successfully remediated and decommissioned at the Facility. The amount of waste in FUSRAP areas that will need to be packaged and shipped to a licensed disposal facility is similar to the amounts evaluated in the 2004 and 2009 EAs, and this waste will be packaged and transported to the same disposal facility previously used for non-FUSRAP area remediation activities.

The revised DP includes new site-specific soil DCGLs for Ra-226 and Th-232, to support the unrestricted release of the impacted areas of the Burning Grounds. The staff's technical review confirmed that the licensee's requested site specific Ra-226 and Th-232 soil DCGLs of 4.5 and 4.0 picocuries/gram, respectively, would result in a maximum annual dose of less than 19 millirem of total effective dose equivalent, considering a resident farmer scenario and using the RESRAD 6.4 computer code to model the input parameters of the scenario and compute the dose to an individual. Because this dose is less than 25 millrem per year, use of these DCGLs will meet the radiological criteria for unrestricted release specified in 10 CFR 20.1402. The conclusions of the 2004 and 2009 EAs thus remain valid for the proposed action.

In summary, NRC staff has reviewed the revised decommissioning plan for the Facility, and examined the impact of the proposed additional decommissioning activities. Based upon its review, the staff has determined that environmental impacts associated with the proposed action are not greater than the impacts found in the 2004 and 2009 EAs, and are bounded by the impacts discussed in NUREG-1496, “A Generic Environmental Impact Statement in Support of Rulemaking on Radiological Criteria for License Termination of NRC-Licensed Nuclear Facilities,” Volumes 1-3. The staff finds that there have been no significant environmental impacts to date from the use and cleanup of radioactive material at the Facility. The NRC staff reviewed the docket file records to identify any non-radiological hazards that may impact the environment surrounding the Facility, and no such hazards or impacts to the environment were identified. The NRC has identified no other radiological or non-radiological activities in the area that could result in cumulative environmental impacts.

The staff has considered the impact of the proposed FUSRAP area remediation at the Facility, and finds that the proposed action will not have a significant impact on the quality of the human environment.

Environmental Impacts of the Alternatives to the Proposed Action

The Facility is in the process of being decommissioned under an approved DP. Although the U.S. Army Corps of Engineers (USACE) has responsibility for coordinating the radiological clean up in the FUSRAP areas, ABB entered into a formal agreement with the USACE and the NRC to conduct the clean up due to extensive comingling of FUSRAP and NRC licensed materials from past commercial operations in order to facilitate the efficient and effective decommissioning and clean up of the Facility. Therefore, the only alternative to the proposed action to continue the decommissioning process at the Facility is no action. The no-action alternative is not acceptable because it is inconsistent with NRC's Timeliness Rule (10 CFR 30.36), which requires licensees to decommission their facilities when licensed activities cease and to request termination of their radioactive materials license. Although termination of the NRC and USACE agreement would result in unnecessary remediation and decommissioning delay, the environmental impacts created by the action would be unchanged. Additionally, denying the amendment request would result in no change in current environmental impacts. The environmental impacts of the proposed action and the no-action alternative are therefore similar, and the no-action alternative is, accordingly, not considered further.

Conclusion

The NRC staff reviewed the environmental impacts of the proposed action in accordance with the requirements of 10 CFR 51 and NRC's unrestricted release criteria specified in 10 CFR 20.1402. The NRC staff has determined that incorporating the Facility's remaining FUSRAP areas into the site-wide DP would not significantly affect the quality of the human environment, and a FONSI is appropriate. Therefore, an environmental impact statement is not warranted for the proposed action, and pursuant to 10 CFR 51.32.

Agencies and Persons Consulted

This EA was prepared by NRC staff and coordinated with the following agencies: Connecticut Department of Environmental Protection and the U.S. Fish and Wildlife Services. NRC provided a draft of this EA to the Connecticut Department of Environmental Protection for review on April 29, 2011. On May 16, 2011, Michael Firsick of the Connecticut Department of Environmental Protection responded by e-mail. The State agreed with the conclusions of the EA.

III. Finding of No Significant Impact

On the basis of the EA, NRC has concluded that there are no significant environmental impacts from the proposed amendment and has determined not to prepare an environmental impact statement.

IV. Further Information

Documents related to this action, including the application for amendment and supporting documentation, are available electronically through the NRC Library at http://www.nrc.gov/reading-rm/adams.html. From this site, you can access the NRC's Agencywide Document Access and Management System (ADAMS), which provides text and image files of NRC's public documents.

The ADAMS accession numbers for the documents related to this notice are:

Document | PDR | Web | ADAMS | NRC staff
ABB, Inc. Decommissioning Plan, Revision 2, CE Windsor Site (Previously Identified FUSRAP Areas Including Debris Piles & Site Brook). August 2010. | X | X | ML102310473 | X
ABB, Inc. Decommissioning Plan, Revision 2, CE Windsor Site—Figures. August 2010. | X | X | ML102310512 | X
ABB, Inc. Decommissioning Plan, Revision 2, CE Windsor Site—Tables. August 2010. | X | X | ML102310479 | X
ABB, Inc. Decommissioning Plan, Revision 2, CE Windsor Site—Appendix A: RESRAD Reports—Resident Farmer Thorium and Radium. August 2010. | X | X | ML102310548 | X
ABB, Inc. Decommissioning Plan, Revision 2, CE Windsor Site—Appendix B: Probabilistic Evaluation Graphical Summary. August 2010. | X | X | ML102310553 | X
ABB, Inc. Derivation of the Site Specific Soil DCGLs, Addendum, Soil DCGLs for thorium and radium. August 2010. | X | X | ML102310539 | X
Memorandum of Understanding Between the Environmental Protection Agency and the Nuclear Regulatory Commission, Consultation and Finality on Decommissioning and Decontamination of Contaminated Sites. October 2002. | X | X | ML022830208 | X
Letter to U.S. Army Corps of Engineers from U.S. Nuclear Regulatory Commission on Proposed Process to Decommission and Clean Up the ABB Windsor Site. August 15, 2007. | X | X | ML072210979 | X

If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's Public Document Room (PDR), O 1 F21, One White Flint North, 11555 Rockville Pike, Rockville, MD 20852. The PDR reproduction contractor will copy documents for a fee.

Dated at King of Prussia, Pennsylvania this 18th day of May 2011.
For the Nuclear Regulatory Commission.
Judith A. Joustra,
Chief, Decommissioning Branch, Division of Nuclear Materials Safety, Region I.

[FR Doc. 2011-13362 Filed 5-27-11; 8:45 am]

BILLING CODE 7590-01-P